DEPARTMENT OF COMMERCE

National Oceanic and Atmospheric Administration

RTID 0648-XA083

New England Fishery Management Council; Public Meeting; Cancellation

AGENCY: National Marine Fisheries Service (NMFS), National Oceanic and Atmospheric Administration (NOAA), Commerce.

ACTION: Notice of cancellation of a public meeting.

SUMMARY: The New England Fishery Management Council (Council) has cancelled a public meeting of its Groundfish Committee that was scheduled for Friday, April 3, 2020.

FOR FURTHER INFORMATION CONTACT: Thomas A. Nies, Executive Director, New England Fishery Management Council; telephone: (978) 465-0492.

SUPPLEMENTARY INFORMATION: The original meeting notice published in the Federal Register on March 17, 2020 (85 FR 15124). The meeting will be rescheduled at a later dated and announced in the Federal Register.

Authority: 16 U.S.C. 1801 et seq.

Dated: March 25, 2020.
Tracey L. Thompson,
Acting Deputy Director, Office of Sustainable Fisheries, National Marine Fisheries Service.

[FR Doc. 2020-06521 Filed 3-27-20; 8:45 am]

BILLING CODE 3510-22-P